DEPARTMENT OF AGRICULTURE

Animal and Plant Health Inspection Service

[Docket No. 05-021-1]

Notice of Request for Extension of Approval of an Information Collection; State-Federal Brucellosis Eradication Program

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the State-Federal Brucellosis Eradication Program.

DATES: We will consider all comments that we receive on or before October 4, 2005.

ADDRESSES: You may submit comments by either of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 05-021-1, Regulatory Analysis and Development, PPD, APHIS, Station 3C71, 4700 River Road Unit 118, Riverdale, MD 20737-1238. Please state that your comment refers to Docket No. 05-021-1.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: For information regarding the State-Federal Brucellosis Eradication Program, contact Dr. Debra Donch, Senior Staff Veterinarian, Ruminant Health Programs, National Center for Animal Health Programs, VS, 4700 River Road Unit 43, Riverdale, MD 20737; (301) 734-5952. For copies of more detailed information on the information collection, contact Mrs. Celeste Sickles, APHIS” Information Collection Coordinator, at (301) 734-7477.

SUPPLEMENTARY INFORMATION: Title: State-Federal Brucellosis Eradication Program.

OMB Number: 0579-0047.

Type of Request: Extension of approval of an information collection.

Abstract: The Animal and Plant Health Inspection Service (APHIS) is responsible for, among other things, administering regulations intended to prevent the spread of brucellosis and other animal diseases within the United States.

Brucellosis is a contagious disease that primarily affects cattle, bison, and swine. It causes the loss of young through spontaneous abortion or birth of weak offspring, reduced milk production, and infertility. The continued presence of brucellosis in a herd seriously threatens the health of other animals. Brucellosis has caused devastating losses to farmers in the United States over the last century.

The State-Federal Brucellosis Eradication Program, which is a national program, is working toward eliminating this serious disease of livestock. The program is conducted under the various States' authorities supplemented by Federal authorities regulating interstate movement of affected animals. Effective screening programs and extensive epidemiological investigations are required to locate infection and to eradicate the disease.

Conducting effective brucellosis screening programs and epidemiological investigations requires the use of many information collection activities, such as applications for tags or tattoos, epidemiology report forms, monthly reports of brucellosis eradication and program surveillance activities, reports of brucellosis reactors slaughtered, and permits for interstate movement of animals.

The information obtained from these activities is used to find infected herds and ensure that brucellosis is not spread interstate from infected herds. These information collection activities are essential in determining the brucellosis status of an area and helping herd owners by allowing the timely detection and elimination of a serious disease.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.033519373 hours per response.

Respondents: Accredited veterinarians, State animal health authorities, livestock inspectors, herd owners, and owners/operators of livestock markets.

Estimated annual number of respondents: 7,382.

Estimated annual number of responses per respondent: 71.455703.

Estimated annual number of responses: 527,486.

Estimated total annual burden on respondents: 17,681 hours. (Due to averaging, the total annual burden hours may not equal the product of the annual number of responses multiplied by the average reporting burden per response.)

All responses to this notice will be summarized and included in the request for OMB approval. All comments will also become a matter of public record.

Done in Washington, DC, this 1st day of August 2005.
Elizabeth E. Gaston,
Acting Administrator, Animal and Plant Health Inspection Service.

[FR Doc. 05-15517 Filed 8-4-05; 8:45 am]

BILLING CODE 3410-34-P